DEPARTMENT OF ENERGY

Federal Energy Regulatory Commission

[Docket No. EL00-76-000]

French Broad Electric Membership Corporation v. Carolina Power & Light Company; Notice of Complaint

May 16, 2000.

Take notice that on May 12, 2000, French Broad Electric Membership Corporation (FBEMC) filed a complaint against Carolina Power & Light Company (CP&L) alleging that CP&L's rate for capacity charged to FBEMC for requirements service under a bundled Power Supply Agreement is unjust and unreasonable. FBEMC requests that the Commission establish hearing procedures to determine the just and reasonable rate to be effective 60 days after the filing of the complaint, direct CP&L to refund excessive amounts previously collected from FBEMC, and establish a refund effective date of 60 days after the filing of the complaint.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before June 1, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222) for assistance. Answers to the complaint shall also be due on or before June 1, 2000.

David P. Boergers,
Secretary.

[FR Doc. 00-12726 Filed 5-19-00; 8:45 am]

BILLING CODE 6717-01-M